SURFACE TRANSPORTATION BOARD

[Docket No. FD 36270]

Sequatchie Valley Switching Company, LLC—Operation Exemption—Tennessee Railroad Holdings, LLC

Sequatchie Valley Switching Company, LLC (SQSC), a noncarrier, has filed a verified notice of exemption under 49 CFR 1150.31 to operate approximately 11.77 miles of rail line (the Line) pursuant to an operating agreement with Tennessee Railroad Holdings, LLC (TRH), a noncarrier.¹ The Line extends between milepost 0.0, a point of connection to CSX Transportation, Inc., at or near Bridgeport, Jackson County, Ala., and milepost 11.77, the end of track at or near Jaspar, Marion County, Tenn.

¹ TRH concurrently filed a verified notice of exemption in Tennessee Railroad Holdings, LLC—Acquisition Exemption—Sequatchie Valley Railroad, Inc., Docket No. FD 36269, in which TRH seeks to acquire the Line and become a Class III rail carrier.

The transaction is related to a concurrently filed verified notice of exemption in Gregory B. Cundiff Trust—Continuance in Control Exemption—Tennessee Railroad Holdings, Inc., Sequatchie Valley Switching Co., LLC, & Walking Horse Railroad, LLC, Docket No. FD 36272, in which the Gregory B. Cundiff Trust, the Connie Cundiff Trust, CGX, Inc., and Ironhorse Resources, Inc., seek to continue in control of SQSC upon SQSC's becoming a Class III rail carrier.

SQSC certifies that, as a result of this transaction, its projected revenues would not exceed those that would qualify it as a Class III rail carrier and will not exceed $5 million. SQSC states that the agreement does not involve any provision or agreement that may limit future interchange.

The transaction may be consummated on or after March 27, 2019, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than March 20, 2019 (at least seven days before the exemption becomes effective).

An original and 10 copies of all pleadings, referring to Docket No. FD 36270, must be filed with the Surface Transportation Board, 395 E Street SW, Washington, DC 20423-0001. In addition, a copy of each pleading must be served on Thomas F. McFarland, Thomas F. McFarland, P.C., 208 South LaSalle Street, Suite 1666, Chicago, IL 60604-1228.

According to SQSC, this action is categorically excluded from environmental review under 49 CFR 1105.6(c) and from historic reporting under 49 CFR 1105.8(b).

Board decisions and notices are available at www.stb.gov.

Decided: March 8, 2019.
By the Board, Allison C. Davis, Acting Director, Office of Proceedings.
Jeffrey Herzig,
Clearance Clerk.

[FR Doc. 2019-04611 Filed 3-12-19; 8:45 am]

BILLING CODE 4915-01-P